DEPARTMENT OF AGRICULTURE

Grain Inspection, Packers and Stockyards Administration

7 CFR Chapter VIII

RIN 0580-AB00

The Role of USDA in Differentiating Grain Inputs for Ethanol Production and Standardizing Testing of the Co-Products of Ethanol Production

AGENCY: Grain Inspection, Packers and Stockyards Administration, USDA.

ACTION: Notice of reopening and extension of comment period.

SUMMARY: We published an advance notice of proposed rulemaking in the Federal Register on July 20, 2007 (72 FR 39762), inviting comments from producers, handlers, processors, livestock feeders, industry representatives, and other interested persons on the appropriate government role with regard to differentiating grain attributes for ethanol production, as well as standardizing the testing of co-products of ethanol production, commonly referred to as distillers grains. The notice provided an opportunity for interested parties to forward written comments to the Grain Inspection, Packers and Stockyards Administration until September 18, 2007. As a result of a request from the grain industry, we are reopening the comment period to provide interested parties with additional time in which to comment.

DATES: We will consider comments that we receive by December 4, 2007.

ADDRESSES: We invite you to submit comments on this advance notice of proposed rulemaking. You may submit comments by any of the following methods:

• E-Mail: Send comments via electronic mail to comments.gipsa@usda.gov.

• Mail: Send hardcopy written comments to Tess Butler, GIPSA, USDA, 1400 Independence Avenue, SW., Room 1633-S, Washington, DC 20250-3604.

• Fax: Send comments by facsimile transmission to: (202) 690-2173.

• Hand Delivery or Courier: Deliver comments to: Tess Butler, GIPSA, USDA, 1400 Independence Avenue, SW., Room 1647-S, Washington, DC 20250-3604.

• Federal eRulemaking Portal: Go to http://www.regulations.gov. Follow the online instructions for submitting comments.

• Instructions: All comments should make reference to the date and page number of this issue of the Federal Register.

• Read Comments: All comments will be available for public inspection in the above office during regular business hours (7 CFR 1.27(b)) and at regulations.gov.

FOR FURTHER INFORMATION CONTACT: Eric Jabs at GIPSA, USDA, 6501 Beacon Drive, Suite 180 Stop 1404, Kansas City, MO 64133; Telephone (816) 823-4635; Fax Number (816) 823-4644; e-mail Eric.J.Jabs@usda.gov.

SUPPLEMENTARY INFORMATION: GIPSA published an advance notice of proposed rulemaking in the Federal Register on July 20, 2007 (72 FR 39762), inviting comments from all interested persons on the appropriate government role with regard to differentiating grain attributes for ethanol production, as well as standardizing the testing of co-products of ethanol production, commonly referred to as distillers grains. Our intent is to determine the appropriate government role in facilitating the marketing of distillers grains in today's evolving marketplace. The comment period of 60 days from the date of publication (72 FR 39762) closed on September 18, 2007. GIPSA received a request from the grain industry to provide interested parties additional time to comment. As a result, the comment period is reopened for a 60 day period.

Authority: 7 U.S.C. 71-87.

James E. Link,
Administrator, Grain Inspection, Packers and Stockyards Administration.

[FR Doc. E7-19733 Filed 10-4-07; 8:45 am]

BILLING CODE 3410-KD-P